DEPARTMENT OF HEALTH AND HUMAN SERVICES

Agency for Toxic Substances and Disease Registry

[Program Announcement 03124]

Program To Build Capacity To Assess and Improve Healthcare Services in Anniston, AL; Notice of Availability of Funds

Application Deadline: July 21, 2003.

A. Authority and Catalog of Federal Domestic Assistance Number

This program is authorized in sections 104(i)(14) of the Comprehensive Environmental Response, Compensation, and Liability Act (CERCLA) as amended (42 U.S.C 9604 (i)(14)). The Catalog of Federal Domestic Assistance number is 93.161.

B. Purpose

The Agency for Toxic Substances and Disease Registry (ATSDR) announces the availability of fiscal year (FY) 2003 funds for a cooperative agreement Program to Build Capacity to Assess and Improve Healthcare Services in Anniston, Alabama. This program addresses the “Healthy People 2010” focus areas of Educational and Community-Based Programs; Environmental Health; and Maternal, Infant, and Child Health.

The purpose of this program is to: (1) Collect and analyze data to describe the health care services in the Anniston area; (2) to assess the community's access to healthcare services; (3) to develop a plan to increase access to healthcare, if needed; and (4) to inform and educate residents about healthcare services in their community. Special emphasis should be placed on the environmental and occupational medicine services in the area.

Measurable outcomes of the program will be in alignment with one or more of the following performance goals for the ATSDR: Developing and providing reliable, understandable information for people in affected communities and tribes and for stakeholders, and build and enhance effective partnerships.

C. Eligible Applicants

Applications may be submitted by public and private nonprofit and for-profit organizations and by governments and their agencies; that is, universities, colleges, technical schools, research institutions, hospitals, other public and private nonprofit and for-profit organizations, faith-based organizations, community-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations.

Note: Title 2 of the United States Code section 1611 States that an organization described in section 501(C)(4) of the Internal Revenue Code that engages in lobbying activities is not eligible to receive Federal funds constituting an award, grant or loan.

D. Funding

Availability of Funds

Approximately $75,000 is available in FY 2003 to fund one award. It is expected that the award will begin on or about August 1, 2003, and will be made for a 12-month budget period within a project period of up to two years. Funding estimates may change. Continuation awards within an approved project period will be made on the basis of satisfactory progress as evidenced by required reports and the availability of funds.

Use of Funds

Funds may be expended for reasonable program purposes, such as personnel, travel, supplies and services. Funds for contractual services may be requested; however, the primary recipient of ATSDR funds must perform a substantive role in carrying out project activities and not merely serve as a conduit for an award to another party or provide funds to an ineligible party. Equipment may be purchased with these funds, however, the equipment proposed should be appropriate and reasonable for the research activity to be conducted. Equipment may be acquired only when authorized and the application should provide a justification of need to acquire equipment, the description, and the cost of purchase versus lease. To the greatest extent practicable, equipment and products purchased with ATSDR funds should be American made. ATSDR retains the right to request return of all equipment purchased (in operable condition) with grant funds at the completion of the project period.

Recipient Financial Participation

Matching funds are not required for this program.

Funding Priority

Preference will be given to the following: Applicants who are located in the southeastern region of the United States, applicants who have support from the Anniston community as evidenced by letters of support, and proposed projects that maximize available resources.

E. Program Requirements

In conducting activities to achieve the purpose of this program, the recipient will be responsible for the activities listed in 1. Recipient Activities, and ATSDR will be responsible for the activities listed in 2. ATSDR Activities.

1. Recipient Activities

a. Develop and implement a program proposal which examines the current healthcare services in the Anniston area. Special efforts should also be made to closely coordinate this activity with Federal agencies such as Health Resources and Services Administration (HRSA) and other State, and local agencies who are working to address health care issues in the Anniston area.

b. Work in collaboration with Federal, State, and local agency staff, community members, and local healthcare providers to develop a plan to improve healthcare services and/or access to occupational and environmental healthcare services in the Anniston area if needed.

c. Work in collaboration with Federal, State, and local agency staff, community members, and local healthcare providers to develop a report which (1) describes the current health care services in Anniston; (2) describes the community's access to current services; and (3) provides specific plans and recommendations to improve the healthcare services and the community's access to healthcare services in Anniston, with a special emphasis on environmental and occupational medicine services.

d. Provide evidence of on-going collaborative efforts with community representatives, local elected officials, State and local health departments, etc., to enhance communication and information exchange with the Anniston community.

e. Establish a mechanism to work with community members to gather input on study issues, including outreach, participation, and education.

f. Meet monthly, either telephonically or in person, with ATSDR and other Anniston-area program participants to coordinate planned efforts and review progress.

g. Disseminate project results and other necessary information to community members, and publish in written format for distribution.

2. ATSDR Activities

a. Provide information regarding public health studies and other activities associated with Anniston.

b. Assist with the development of questionnaires or other tools to gather the information necessary for this project.

c. Provide assistance with the dissemination of information resulting from this project, including the publication of a final report.

d. Facilitate monthly meetings between the awardee, community members and other Anniston-area program participants to coordinate planned efforts and review progress.

F. Content

Letter of Intent (LOI)

A LOI is required for this program. The Program Announcement title and number must appear in the LOI. The narrative should be no more than two pages, single-spaced, printed on one side, with one-inch margins, and unreduced 12-point font. Your letter of intent will be used to enable ATSDR to determine the level of interest in this announcement, and should include the following information:

1. Issues/concerns regarding access to healthcare services in Anniston, Alabama.

2. Proposed methods.

3. Time line.

4. Experience of key personnel related to the proposed project.

Applications

The Program Announcement title and number must appear in the application. Use the information in the Program Requirements, Other Requirements, and Evaluation Criteria sections to develop the application content. Your application will be evaluated on the criteria listed, so it is important to follow them in laying out your program plan. The narrative should be no more than 30 pages, double-spaced, printed on one side, with one-inch margins, and unreduced 12-point font.

The narrative should consist of, at a minimum, a Proposed Project Plan, Program Objectives, Methods, Evaluation, Budget, and Time line. The project plan should address activities to be conducted over the entire two-year project period.

G. Submission and Deadline

Letter of Intent (LOI) Submission

On or before July 7, 2003, submit the LOI to the Grants Management Specialist identified in the “Where to Obtain Additional Information” section of this announcement.

Application Forms

Submit the signed original and two copies of the PHS 5161 form. Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. eastern time July 21, 2003. Submit the application to: Technical Information Management—PA #03124, CDC Procurement and Grants Office, 2920 Brandywine Road, Atlanta, GA 30341-4146.

Applications may not be submitted electronically.

CDC Acknowledgement of Application Receipt

A postcard will be mailed by PGO-TIM, notifying you that CDC has received your application.

Deadline

Letters of intent and applications shall be considered as meeting the deadline if they are received before 4 p.m. eastern time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by ATSDR will evaluate each application against the following criteria:

1. Proposed Program (50 percent)

a. The applicant's understanding of the health care delivery system in Anniston, Alabama; ability to develop a plan, conduct, and evaluate a program and/or process to gather information regarding the healthcare system in Anniston; and collaborate effectively with a variety of public health partners including other federal, state, and local agencies who are working to evaluate and address the healthcare system in Anniston.

b. Documented access to or the ability to gain access to information regarding healthcare services in the Anniston area. Special emphasis should be placed on information regarding occupational and environmental medicine services in the area.

c. Clearly stated understanding of the environmental public health problems to be addressed, including any special issues or concerns related to healthcare delivery in the Anniston community.

d. Clear and reasonable program goals and clearly stated project objectives which are realistic, measurable, and related to the program requirements.

e. Specificity and feasibility of proposed time line for implementing project activities.

2. Program Personnel (20 percent)

a. Applicant's experience and understanding (e.g. in the areas of local healthcare delivery systems, healthcare systems and services throughout the United States, environmental and occupational medicine services, community networking, etc.).

b. Qualifications and time allocation of the professional staff to be assigned to this project.

c. Extent to which the management staff and their working partners are clearly described.

3. Community Involvement and Dissemination of Results (20 percent)

a. Adequacy of plan establishing partnerships to address community concerns, educate residents, and create lines of communication with key community representatives.

b. Adequacy of methods to disseminate the study results to state and local public health officials, community residents, and to other concerned individuals and organizations.

4. Facilities and Resources (10 percent)

The adequacy of the applicant's facilities, equipment, and other resources available for performance of this project.

5. Budget Justification (Reviewed, Not Scored)

The budget will be evaluated to the extent that it is reasonable, clearly justified, and consistent with the intended use of funds.

I. Other Requirements

Technical Reporting Requirements

Provide CDC/ATSDR with original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC/ATSDR Web site.

AR-7 Executive Order 12372 Review

AR-9 Paperwork Reduction Act Requirements

AR-10 Smoke-Free Workplace Requirements

AR-11 Healthy People 2010

AR-12 Lobbying Restrictions

AR-18 Cost Recovery—ATSDR

AR-19 Third Party Agreements—ATSDR

AR-22 Research Integrity

J. Where To Obtain Additional Information

This and other CDC announcements, the necessary applications, and associated forms can be found on the CDC Web site, Internet address: http://www.cdc.gov.

Click on “Funding” then “Grants and Cooperative Agreements''.

For general questions about this announcement, contact: Technical Information Management, CDC Procurement and Grants Office, 2920 Brandywine Road, Atlanta, GA 30341-4146. Telephone: 770-488-2700.

For business management and budget assistance, contact: Edna Green, Grants Management Specialist, Procurement and Grants Office, Centers for Disease Control and Prevention, 2920 Brandywine Road, Atlanta, GA 30341-4146. Telephone: 770-488-2743. E-mail address: ecg4@cdc.gov.

For program technical assistance, contact: Theresa L. NeSmith, Health Education Specialist, Site Activities Branch, Division of Health Education and Promotion, Agency for Toxic Substances and Disease Registry, 1600 Clifton Road, NE., Mail Stop E-42, Atlanta, Georgia 30333. Telephone: 404-498-0515. E-mail address: Tnesmith@cdc.gov.

Dated: June 13, 2003.
Edward Schultz,
Acting Director, Procurement and Grants Office, Centers for Disease Control and Prevention.

[FR Doc. 03-15593 Filed 6-19-03; 8:45 am]

BILLING CODE 4163-70-P